FEDERAL EMERGENCY MANAGEMENT AGENCY

Agency Information Collection Activities: Submission for OMB Review; Comment Request

ACTION: Notice and request for comments.

SUMMARY: The Federal Emergency Management Agency (FEMA) has submitted the following collection of information to the Office of Management and Budget (OMB) for review and clearance in accordance with the requirements of the Paperwork Reduction Act of 1995 (44 U.S.C. 3507). The collection of information, which is contained in FEMA's interim final rule 44 CFR parts 201 and 206 and published in the Federal Register February 26, 2002, was approved by OMB February 15, 2002, under OMB's emergency processing procedures. We are requesting a 3-year approval to continue using the collection of information.

Title: State/Local/Tribal Hazard Mitigation Plans-Section 322 of the Disaster Mitigation Act of 2000.

Type of Information Collection: Extension of a currently approved collection.

OMB Number: 3067-0297.

Abstract: To obtain Federal grant assistance through Federal programs such as the Hazard Mitigation Grant Program (HMGP) and Fire Management Assistance Program, State, local and tribal governments are required to establish a process for developing and implementing a comprehensive state mitigation plan and provide a framework for State and federally sponsored mitigation activity resources.

Affected Public: State, Local or Tribal Government.

Number of Respondents: 556—56 States and 500 Local or Tribal Governments.

Estimated Time per Respondent:

Type of collection/forms | Number of respondents | Hours per response | Annual burden hours
Update State or tribal mitigation plans (standard state mitigation plans) | 18 | 320 | 5,760
State review of local plans | 500 | 8 | 4,000
States develop Enhanced State Mitigation Plans | 7 | 100 | 700
Local or tribal governments develop mitigation plans | ¹ 500 | 300 | 150,000
¹ Local plans.

Estimated Total Annual Burden Hours: 160,460.

Frequency of Response: On Occasion.

Comments

Interested persons are invited to submit written comments on the collection of information to the Desk Officer for the Federal Emergency Management Agency, Office of Information and Regulatory Affairs, Office of Management and Budget, Washington, DC 20503 within 30 days of the date of this notice.

FOR FURTHER INFORMATION CONTACT: Requests for additional information or copies of the information collection should be made to Muriel B. Anderson, Chief, Records Management Section, Program Services and Systems Branch, Facilities Management and Services Division, Administration and Resource Planning Directorate, Federal Emergency Management Agency, 500 C Street, SW., Room 316, Washington, DC 20472, telephone number (202) 646-2625 or facsimile number (202) 646-3347 or e-mail InformationCollections@fema.gov.

Dated: August 12, 2002.
Reginald Trujillo,
Branch Chief, Program Services and Systems Branch, Facilities Management and Services Division, Administration and Resource Planning Directorate.

[FR Doc. 02-21502 Filed 8-22-02; 8:45 am]

BILLING CODE 6718-01-P